DEPARTMENT OF TRANSPORTATION

Federal Aviation Administration

Agency Information Collection Activities Under OMB Review

AGENCY: Federal Aviation Administration (FAA), DOT.

ACTION: Notice.

SUMMARY: In compliance with the Paperwork Reduction Act of 1995 (44 U.S.C. 3501 et seq.), this notice announces that the Information Collection Requests (ICR) abstracted below have been forwarded to the Office of Management and Budget (OMB) for extension of the currently approved collections. The ICR describes the nature of the information collection and the expected burden. The Federal Register Notice with a 60-day comment period soliciting comments on the following collections of information was published on July 25, 2003, page 44137.

DATES: Comments must be submitted on or before November 7, 2003. A comment to OMB is most effective if OMB receives it within 30 days of publication.

FOR FURTHER INFORMATION CONTACT: Judy Street on (202) 267-9895.

SUPPLEMENTARY INFORMATION:

Federal Aviation Administration (FAA)

1. Title: Notice and Approval of Airport Noise and Access Restrictions.

Type of Request: Extension of a currently approved collection.

OMB Control Number: 2120-0563.

Form(s): N/A.

Affected Public: A total of 8 airport operators.

Abstract: The Airport Noise and Capacity Act of 1990 mandates the formulation of a national noise policy. One part of that mandate is the development of a national program to review noise and access restrictions on the operation of Stage 2 and 3 aircraft. 14 CFR part 161 is the principal means. Respondents are airport operators proposing voluntary agreements and/or mandatory restrictions on Stage 2 and Stage 3 aircraft operations, and aircraft operators that request reevaluation of a restriction.

Estimated Annual Burden Hours: An estimated 30,000 hours annually.

2. Title: Associate Administrator for Commercial Space Transportation (AST) Customer Service Survey.

Type of Request: Extension of a currently approved collection.

OMB Control Number: 2120-0611.

Form(s): N/A.

Affected Public: A total of 300 commercial space transportation customers.

Abstract: The FAA Office of the Associate Administrator for Commercial Space Transportation (AST) conducts this survey in order to obtain industry input on customer service standards which have been developed and distributed to industry customers. This is a requirement of the White House NPR Customer Service Initiative. AST collects and analyzes the data for results.

Estimated Annual Burden Hours: An estimated 300 hours annually.

3. Title: Service Difficulty Report.

Type of Request: Extension of a currently approved collection.

OMB Control Number: 2120-0663.

Form(s): FAA Form 8070-1.

Affected Public: A total of 7,695 aircraft and repair station operators.

Abstract: The administrator has determined, based on evaluation of previous accidents and other incidents, that certain events involving malfunctions and defects may be precursors to the recurrence of these accidents. As a result, operators and repair stations are required to report any malfunctions and defects to the Administrator.

Estimated Annual Burden Hours: An estimated 6,107 hours annually.

ADDRESSES: Send comments to the Office of Information and Regulatory Affairs, Office of Management and Budget, 725 17th Street, NW., Washington, DC 20503, Attention: FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on October 1, 2003.
Judith D. Street,
FAA Information Collection Clearance Officer, Standards and Information Division, APF-100.

[FR Doc. 03-25434 Filed 10-7-03; 8:45 am]

BILLING CODE 4910-13-M